SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before March 18, 2002.

ADDRESSES: Send all comments regarding whether this information collection is necessary for the proper performance of the function of the agency, whether the burden estimates are accurate, and if there are ways to minimize the estimated burden and enhance the quality of the collection, to Carol Walker, Chief, Office of Civil Rights Compliance Small Business Administration, 409 3rd Street, SW., Suite 6400, Washington DC 20416

FOR FURTHER INFORMATION CONTACT: Carol Walker, Chief, Civil Rights Compliance (202) 205-7149 or Curtis B. Rich, Management Analyst, (202) 205-7030.

SUPPLEMENTARY INFORMATION:

Title: Notice to New Borrowers.

Form No: 793.

Description of Respondents: Companies are requested to keep records in order for SBA to determine the compliance status of recipient.

Annual Responses: 24,985.

Annual Burden: 5,767.

ADDRESSES: Send all comments regarding whether these information collections are necessary for the proper performance of the function of the agency, whether the burden estimates are accurate, and if there are ways to minimize the estimated burden and enhance the quality of the collections, to Sandra Johnston, Program Analyst, Office of Financial Assistance Small Business Administration, 409 3rd Street, SW., Suite 8300, Washington DC 20416.

FOR FURTHER INFORMATION CONTACT: Sandra Johnston, Program Analyst (202) 205-7528 or Curtis B. Rich, Management Analyst, (202) 205-7030.

Title: Statement of Personal History.

Form No: 1081.

Description of Respondents: Certified Development Companies.

Annual Responses: 300.

Annual Burden: 75.

Title: Servicing Agent Agreement.

Form No: 1506.

Description of Respondents: Certified Development Companies.

Annual Responses: 4,200.

Annual Burden: 4,200.

Jacqueline White,
Chief, Administrative Information Branch.

[FR Doc. 02-1133 Filed 1-15-02; 8:45 am]

BILLING CODE 8025-01-P